DEPARTMENT OF TRANSPORTATION

Coast Guard

33 CFR Part 117

[CGD01-00-018]

Drawbridge Operation Regulations: West Bay, MA

AGENCY: Coast Guard, DOT.

ACTION: Notice of temporary deviation from regulations.

SUMMARY: The Commander, First Coast Guard District has issued a temporary deviation from the existing drawbridge regulations for the West Bay Bridge, mile 1.2, across West Bay in Osterville, Massachusetts. This deviation requires the bridge owner to open the bridge from April 1, 2000 to April 30, 2000, 8 a.m. to 4 p.m., only if at least a four hour advance notice is given by calling (508) 790-6330. This deviation is necessary to facilitate necessary repairs to the bridge.

DATES: This deviation is effective from April 1, 2000 to April 30, 2000.

FOR FURTHER INFORMATION CONTACT: Mr. John McDonald, Project Officer, First Coast Guard District, (617) 223-8364.

SUPPLEMENTARY INFORMATION: The West Bay Bridge has a vertical clearance of 15 feet at mean high water and 17 feet at mean low water.

The existing regulations for the bridge in 33 CFR 117.622 require the bridge to open on signal April 1 through October 31 as follows:

(1) April 1 through June 14 and October 12 through October 31; 8 a.m. to 4 p.m.

(2) June 15 through June 30; 8 a.m. to 6 p.m.

(3) July 1 through Labor Day; 8 a.m. to 8 p.m.

(4) Labor Day through October 11; 8 a.m. to 5 p.m.

(5) At all other times from April 1 through October 31, the draw shall open on signal if at least 4 hours advance notice is given.

(6) From November 1 through March 31, the draw shall open on signal if at least 24 hours advance notice is given.

The bridge owner, the Town Of Barnstable, asked the Coast Guard to allow the bridge to open on signal, from April 1, 2000 through April 30, 2000, 8 a.m. to 4 p.m., only if at least 4 hours advance notice is given by calling (508) 790-6330. These repairs are being performed during the month of April when there have been few requests to open the bridge. Mariners may use an alternate route through Cotuit Bay to avoid using the West Bay Bridge if they do not wish to provide the 4 hour advance notice for bridge openings.

In accordance with 33 CFR 117.35(c), this work will be performed with all due speed in order to return the bridge to normal operation as soon as possible. This deviation is authorized under 33 CFR 117.35.

Dated: March 28, 2000.
G.N. Naccara,
Rear Admiral, U.S. Coast Guard, Commander, First Coast Guard District 3.

[FR Doc. 00-8377 Filed 4-4-00; 8:45 am]

BILLING CODE 4910-15-U